DEPARTMENT OF JUSTICE

Office of Justice Programs

[OJP, NIJ Docket No. 1556]

National Institute of Justice Protective Helmet Standards Workshop

AGENCY: National Institute of Justice.

ACTION: Notice of Meeting of the NIJ Protective Helmet Standards Workshop.

SUMMARY: The National Institute of Justice (NIJ) and the National Institute of Standards and Technology (NIST) are jointly hosting a workshop focused on NIJ protective helmet standards. It is anticipated that the discussion at the workshop will be directed primarily toward manufacturers, certification bodies, and test laboratories.

NIJ and NIST are hosting this workshop specifically to discuss with interested parties two existing protective helmet standards: NIJ Standard for Ballistic Helmets and NIJ Standard for Riot Helmets and Face Shields. NIJ and NIST are seeking to receive input, comments, and recommendations for developing a revised standard for criminal justice protective helmets. Participants are strongly encouraged to come prepared to ask questions and to voice suggestions and concerns.

Space is limited at this workshop, and as a result, only 50 participants will be allowed to register. We request that each organization limit their representatives to no more than two per organization. Exceptions to this limit may occur, should space allow. Participants planning to attend are responsible for their own travel arrangements. Registration information may be found at http://www.justnet.org/Pages/2011_NIJ_Helmet_Workshop.aspx. Registration will close on July 8, 2011.

DATES: The workshop will be held on Friday, July 15, 2011 from 9 a.m. to 3:30 p.m.

ADDRESSES: The workshop will take place at NIST, 100 Bureau Drive Gaithersburg, MD, Building 101, Lecture Room B.

FOR FURTHER INFORMATION CONTACT: Debra Stoe, by telephone at 202-616-7036 [Note: this is not a toll-free telephone number], or by e-mail at Debra.Stoe@usdoj.gov.

Kristina Rose,
Deputy Director, National Institute of Justice.

[FR Doc. 2011-14798 Filed 6-14-11; 8:45 am]

BILLING CODE 4410-18-P